DEPARTMENT OF THE INTERIOR

National Park Service

[NPS-WASO-NAGPRA-NPS0039191; PPWOCRADN0-PCU00RP14.R50000]

Notice of Intended Disposition: U.S. Department of the Interior, Bureau of Reclamation, Region 10: California-Great Basin, Sacramento, CA; Correction

AGENCY: National Park Service, Interior.

ACTION: Notice; correction.

SUMMARY: The National Park Service is correcting a notice of intended disposition published in the Federal Register on October 30, 2024.

ADDRESSES: Dr. Melanie Ryan, Bureau of Reclamation, Region 10: California-Great Basin, 2800 Cottage Way, Sacramento, CA 95825, telephone (916) 978-5526, email emryan@usbr.gov.

SUPPLEMENTARY INFORMATION: This notice is published as part of the National Park Service's administrative responsibilities under NAGPRA.

Correction

In the Federal Register (89 FR 86364-86365, October 30, 2024), replace all instances of “BLM Region 10” with “Bureau of Reclamation, Region 10.”

Authority: Native American Graves Protection and Repatriation Act, 25 U.S.C. 3002, and the implementing regulations, 43 CFR 10.7.

Dated: December 4, 2024.
Melanie O'Brien,
Manager, National NAGPRA Program.

[FR Doc. 2024-29265 Filed 12-11-24; 8:45 am]

BILLING CODE 4312-52-P